DEPARTMENT OF COMMERCE

International Trade Administration

[A-401-806]

Notice of Extension of Time Limit for Final Results of Antidumping Duty Administrative Review: Stainless Steel Wire Rod from Sweden

AGENCY: Import Administration, International Trade Administration, U.S. Department of Commerce.

EFFECTIVE DATE: December 17, 2007.

FOR FURTHER INFORMATION CONTACT: Brian Smith or Gemal Brangman, AD/CVD Operations, Office 2, Import Administration, International Trade Administration, U.S. Department of Commerce, 14th Street and Constitution Avenue, NW, Washington, D.C., 20230; telephone: (202) 482-1766 or (202) 482-3773, respectively.

SUPPLEMENTARY INFORMATION:

Background

On September 7, 2007, the Department of Commerce (“the Department”) published in the Federal Register the preliminary results of the administrative review of the antidumping duty order on stainless steel wire rod from Sweden, covering the period September 1, 2005, through August 31, 2006. See Stainless Steel Wire Rod from Sweden: Preliminary Results of Antidumping Duty Administrative Review, 72 FR 51411 (September 7, 2007). The current deadline for the final results in this review is January 5, 2008.

Extension of Time Limits for Final Results of Review

Section 751(a)(3)(A) of the Tariff Act of 1930, as amended (“the Act”), requires the Department to issue the final results of the administrative review of an antidumping duty order within 120 days after the date on which the preliminary results are published in the Federal Register. However, if it is not practicable to complete the review within this time period, section 751(a)(3)(A) of the Act allows the Department to extend the time limit for the final results to 180 days from the date of publication of the preliminary results.

The Department finds that it is not practicable to complete the final results of the administrative review of stainless steel wire rod from Sweden within the current time frame because the Department requires more time to fully analyze the arguments and comments received from the parties participating in this review with respect to the product comparison criteria currently being used in this case.

Therefore, in accordance with section 751(a)(3)(A) of the Act, the Department is extending the time for completion of the final results of this review until March 5, 2008, which is 180 days after the date on which notice of the preliminary results was published in the Federal Register.

We are issuing and publishing this notice in accordance with sections 751(a)(1) and 777 (i)(1) of the Act.

Dated: December 11, 2007.
Stephen J. Claeys,
Deputy Assistant Secretary for Import Administration.

[FR Doc. E7-24375 Filed 12-14-07; 8:45 am]

BILLING CODE 3510-DS-S